DEPARTMENT OF LABOR

Employment and Training Administration

[TA-W-51,466]

Fishing Vessel (F/V) Fawcett Point, State of Alaska Commercial Fisheries Entry, Commission Permit #S04K595562L Old Harbor, AK; Dismissal of Application for Reconsideration

Pursuant to 29 CFR 90.18(C) an application for administrative reconsideration was filed with the Director of the Division of Trade Adjustment Assistance for workers at Fishing Vessel (F/V) Fawcett Point, State of Alaska Commercial Fisheries Entry Commission Permit #S04K595562L, Old Harbor, Alaska. The application contained no new substantial information which would bear importantly on the Department's determination. Therefore, dismissal of the application was issued.

TA-W-51,466; Fisheries Entry Commission Permit State of Alaska Commercial Fishers Entry Commission Permit #S04K595562L, Old Harbor, Alaska (September 2, 2003)

Signed at Washington, DC this 3rd day of October 2003.
Timothy Sullivan,
Director, Division of Trade Adjustment Assistance.

[FR Doc. 03-26486 Filed 10-20-03; 8:45 am]

BILLING CODE 4510-30-P